DEPARTMENT OF ENERGY

Federal Energy Regulatory Commission

[Project No. 2984-042]

S.D. Warren Company; Notice of Public Meeting on Draft Environmental Assessment

August 4, 2005.

The Commission hereby gives notice that members of its staff will conduct a public meeting on August 18, 2005, from 7 to 10 p.m. (EST) at the Windham High School Auditorium, located at 406 Gray Road, Windham, Maine.

The purpose of the meeting is to request additional comments on the draft environmental assessment (EA) prepared for the relicensing of the Eel Weir Project, FERC No. 2984. The draft EA was issued and publicly noticed on July 11, 2005, and is available for review on the Commission's Web site at http://www.ferc.gov, using the “eLibrary” link. The project is located on the Presumpscot River at the outlet of Sebago Lake, in Cumberland County, Maine.

This meeting is open to the public. All local, state, and Federal agencies, Indian tribes, and other interested parties are invited to participate. A transcript of the meeting will be prepared.

Please contact Allan Creamer at (202) 502-8365, or via e-mail at allan.creamer@ferc.gov, with questions or for additional information.

Linda Mitry,
Deputy Secretary.

[FR Doc. E5-4334 Filed 8-10-05; 8:45 am]

BILLING CODE 6717-01-P